FEDERAL COMMUNICATIONS COMMISSION

[WT Docket No 95-5; FCC 00-76]

Streamlining the Commission's Antenna Structure Clearance Procedure

AGENCY: Federal Communications Commission.

ACTION: Notice.

SUMMARY: In this document, the Commission responds to filings in WT Docket 95-5. We dismiss as moot a petition for partial reconsideration filed by the Wireless Cable Association International, Inc., deny a petition for partial reconsideration filed by Comp Comm, Inc., and grant in part and deny in part a petition for declaratory ruling filed by Teletech, Inc. In doing so, we conclude that the antenna structure registration procedures adopted in 1996 effectively allow us to meet our statutory responsibilities. In response to the petition for declaratory ruling, we provide clarification with respect to situations in which two or more parties locate facilities on the same tower. The effect is to retain in their entirety the rules adopted in a previous final rule.

FOR FURTHER INFORMATION CONTACT: Jamison Prime, Wireless Telecommunications Bureau, Public Safety and Private Wireless Division, (202) 418-0680.

SUPPLEMENTARY INFORMATION: The Memorandum Opinion and Order and Order on Reconsideration was adopted March 1 and released March 8, 2000. The document is available, in its entirety, for inspection and copying during normal business hours in the FCC Reference Center, (Room CY-A257), 445 12th Street, SW, Washington, DC 20554. It may also be purchased from the Commission's copy contractor, International Transcription Services, Inc. (ITS, Inc.), 1231 20th Street, NW, Washington, DC 20036, (202) 857-3800. In addition, it is available on the Commission's website at http://www.fcc.gov/Bureaus/Wireless/Orders/2000/fcc00076.pdf.

Summary of the Memorandum Opinion and Order and Order on Reconsideration

1. Section 303(q) of the Communications Act of 1934, as amended, vests in the Federal Communications Commission (FCC) authority to require painting and/or lighting of antenna structures that might constitute a hazard to air navigation. Part 17 of the Commission's Rules contains the procedures the FCC uses to identify structures which might pose an air safety hazard and by which owners register their antenna structures with the FCC.

2. The Memorandum Opinion and Order and Order on Reconsideration addresses several filings the FCC received in response to the original Report and Order issued in WT Docket 95-5; a petition for declaratory ruling and a separate petition for partial reconsideration both requesting that the Commission establish a specific accuracy standard for obtaining antenna structure data to be filed with the FCC; a petition for partial reconsideration requesting that the Commission adopt relaxed procedures for Multipoint Distribution Service (MDS) and Instructional Television Fixed Service (ITFS) licensees whose licensing data differ from data submitted by antenna structure owners on whose structures the MDS and ITFS licensees are located; and a petition requesting clarification of the FCC's registration requirements in circumstances involving multiple antenna structures on building rooftops and concerning cases of two or more parties located on the same antenna tower.

3. We conclude that a specific accuracy standard is unnecessary because the requirement that antenna structure owners first obtain a study from the Federal Aviation Administration ensures reliability of the antenna structure site data and promotes air safety. Additionally, we find that the request that the FCC adopt relaxed license correction procedures for MDS and ITFS licensees whose licensing data differ from data submitted by antenna structure owners on whose structures the MDS and ITFS licensees are located is moot, and therefore we do not modify these procedures. Any discrepancies between licensing data and antenna structure registration data would have occurred when owners of existing antenna structures (including those structures on which MDS and ITFS licensees were sited) registered with the FCC. The time period for registering these existing structures ended on June 30, 1998.

4. We uphold the procedures adopted in 1995 that require all antenna structures meeting the registration criteria—including multiple structures atop the same rooftop—to be individually registered. Because the Commission's rules require a single registration for each antenna tower, we clarify that in those situations in which an owner of a supporting tower structure permits a third party to add a surmounting antenna, we will consider the owner of the supporting tower remains the “owner” for purposes of the FCC's antenna structure registration purposes. Thus, we grant the petition that requested this clarification.

5. Accordingly, it is ordered that, pursuant to sections 4(i) and 303(q) of the Communications Act of 1934, as amended, 47 U.S.C. 154(i) and 303(q), and sections 1.2, 1.3 and 1.429 of the Commission's Rules, 47 CFR 1.2, 1.3 and 1.429, that the petitions filed in WT Docket 95-5 are granted in part and dismissed in part.

Federal Communications Commission.
Magalie Roman Salas,
Secretary.

[FR Doc. 00-17668 Filed 7-12-00; 8:45 am]

BILLING CODE 6712-01-P